DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2006 Senior Executive Service (SES) Performance Review Boards.

DATES: This notice is effective October 1, 2006.

FOR FURTHER INFORMATION CONTACT: Darwin McCallian, 575 North Pennsylvania Street, Mail Stop AW210, Indianapolis, Indiana 46204, (317) 685-7694.

SUPPLEMENTARY INFORMATION: Pursuant to 5 U.S.C. 4314(c)(4), this notice announces the appointment of members to the Internal Revenue Service's SES Performance Review Boards. The names and titles of the executives serving on the boards follow:

John M. Dalrymple, Deputy Commissioner for Operations Support, and Chair, Service-wide Performance Review Board; Mark Matthews, Deputy Commissioner for Services and Enforcement; Kathy K. Petronchak, Chief of Staff; Robert F. Albicker, Deputy Associate CIO, Systems Integration (MITS); Beverly O. Babers, Chief Human Capital Officer; Carol A. Barnett, Director, Human Capital (W&I); Gary D. Bell, Director, CI Technical Operations and Investigative Services (CI); Kevin M. Brown, Commissioner, Small Business and Self-Employed; Preston R. Butcher, Director, Government Entities (TEGE).

Pota E. Coston, Director for Field Operations (CI); Diane Crothers, Chief, EEO and Diversity; Carl T. Froehlich, Chief, Agency-wide Shared Services; Daniel Galik, Chief Mission Assurance; Silvana G. Garza, Deputy Associate CIO, Business Systems Integration (MITS); Carol D. Gold, Director Employee Plans (TEGE); Arthur L. Gonzalez, Acting Chief Information Officer; James M. Grimes, Director, Compliance (W&I); Sarah Hall Ingram, Chief, Appeals; Kathy P. Jantzen, Associate CIO, Enterprise Operations (MITS).

Nancy J. Jardini, Chief Criminal Investigation; Cecille M. Jones, Deputy Associate CIO for Applications Development (MITS);Frank Keith, Chief, Communications and Liaison; Betsy M. Kinter, Director, Customer Accounts Services (W&I); Janice Lambert, Chief Financial Officer; Lois G. Lerner, Director, Exempt Organizations (TEGE); Mark J. Mazur, Director, Research, Analysis, and Statistics; Steven T. Miller, Commissioner, Tax Exempt and Government Entities; Richard J. Morgante, Commissioner, Wage and Investment; Deborah M. Nolan, Commissioner, Large and Mid-Size Business; Frank Y. Ng, Deputy Commissioner (International), Large and Mid-Size Business.

Nina E. Olson, National Taxpayer Advocate; Mark E. Pursley, Customer Assistance, Relations, and Education (W&I); Kenneth M. Riche, Director of Strategy (CI); Julie Rushin, Director, Strategy and Finance (W&I); Richard Spires, Associate CIO for Business Systems Modernization (MITS); Linda E. Stiff, Deputy Commissioner, Small Business and Self-Employed; Robert C. Turner, Associate CIO for Management (MITS); Bruce B. Unger, Deputy Commissioner (Operations), Large and Mid-Size Business; Christopher Wagner, Deputy Commissioner, Tax Exempt and Government Entities (TEGE); Pamela G. Watson, Deputy Commissioner, Wage and Investment.

This document does not meet the Department of the Treasury's criteria for significant regulations.

Dated: September 6, 2006.
John M. Dalrymple,
Deputy Commissioner for Operations Support, Internal Revenue Service.

[FR Doc. 06-7847 Filed 9-13-06; 8:45 am]

BILLING CODE 4830-01-P